ENVIRONMENTAL PROTECTION AGENCY

[RCRA-2003-0006; FRL-7624-6]

Recovered Materials Advisory Notice V; Reopening of Comment Period

AGENCY: Environmental Protection Agency.

ACTION: Notice of draft document for review; reopening of public comment period.

SUMMARY: The Environmental Protection Agency (EPA) is reopening the comment period for the draft “Recovered Materials Advisory Notice V,” (RMAN V) which appeared in the Federal Register on December 10, 2003 (68 FR 68919). The initial public comment period for this proposed rule ended on February 9, 2004. The purpose of this notice is to reopen the comment period to end on March 19, 2004.

DATES: EPA will accept public comments on the draft RMAN V until March 19, 2004.

ADDRESSES: Comments may be submitted by mail to: OSWER Docket, EPA Docket Center, Environmental Protection Agency, Mailcode: 5305T, 1200 Pennsylvania Ave., NW., Washington, DC 20460, Attention Docket ID No. RCRA-2003-0006. Comments may also be submitted electronically or through hand delivery/courier; follow the detailed instructions as provided below in the SUPPLEMENTARY INFORMATION section of this document.

FOR FURTHER INFORMATION CONTACT: For general information on the draft RMAN V, contact the RCRA Call Center at (800) 424-9346 or TDD (800) 553-7672 (hearing impaired). In the Washington, DC, metropolitan area, call (703) 412-9810 or TDD (703) 412-3323. For more detailed information on specific aspects of the draft RMAN V, contact Sue Nogas at (703) 308-0199.

SUPPLEMENTARY INFORMATION: This document reopens the public comment period established in the Federal Register for the draft RMAN V, which was issued on December 10, 2003 (68 FR 68919). In that document, EPA provided guidance to procuring agencies for purchasing the items proposed in the Comprehensive Procurement Guideline V proposed rule (CPG V), which was also issued on December 10, 2003 (68 FR 68813). In the CPG V proposed rule, EPA proposed to revise the current compost designation to include compost made from manure or biosolids and to designate fertilizers made from recovered organic materials. EPA also proposed to consolidate all compost designations under one item called “compost made from recovered organic materials.” During the initial public comment periods for the CPG V proposed rule and for the draft RMAN V, both of which ended on February 9, 2004, EPA received a request to extend the comment period of the CPG V proposed rule by 30 days. A copy of this request has been placed in the EPA Docket for the draft RMAN V. Consequently, in the proposed rules section of today's Federal Register, EPA is reopening the comment period for the CPG V proposed rule. Because of the close association between the CPG V proposed rule and the draft RMAN V, EPA is hereby reopening the draft RMAN V comment period, which will end on March 19, 2004.

How and To Whom Do I Submit Comments on the Draft RMAN V?

You may submit comments electronically, by mail, or through hand delivery/courier. To ensure proper receipt by EPA, identify the appropriate docket identification number in the subject line on the first page of your comment. Please ensure that your comments are submitted within the specified comment period. Comments received after the close of the comment period will be marked “late.” EPA is not required to consider these late comments. However, late comments may be considered if time permits.

Electronically

If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. RCRA-2003-0006. The system is an “anonymous access” system, which means EPA will not know your identity, e-mail address, or other contact information unless you provide it in the body of your comment.

E-mail. Comments may be sent by electronic mail (e-mail) to rcra-docket@epa.gov, Attention Docket ID No. RCRA-2003-0006. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

Disk or CD-ROM. You may submit comments on a disk or CD-ROM that you mail to the mailing address identified in Unit I.C.2. These electronic submissions will be accepted in WordPerfect or ASCII file format. Avoid the use of special characters and any form of encryption.

By Mail

Send your comments to: OSWER Docket, EPA Docket Center, Environmental Protection Agency, Mailcode: 5305T, 1200 Pennsylvania Ave., NW., Washington, DC 20460, Attention Docket ID No. RCRA-2003-0006.

By Hand Delivery or Courier

Deliver your comments to: EPA Docket Center (EPA/DC), EPA West, Room B102, 1301 Constitution Ave., NW., Washington, DC. Attention Docket ID No. RCRA-2003-0006. Such deliveries are only accepted during the Docket's normal hours of operation (8:30 a.m. to 4:30 p.m. Monday through Friday, excluding legal holidays).

Dated: February 10, 2004.
Robert Springer,
Director, Office of Solid Waste.

[FR Doc. 04-3450 Filed 2-17-04; 8:45 am]

BILLING CODE 6560-50-P